INTERNATIONAL TRADE COMMISSION

[Investigation 332-419]

Pricing of Prescription Drugs

AGENCY: United States International Trade Commission.

ACTION: Institution of investigation.

EFFECTIVE DATE: July 19, 2000.

SUMMARY: Following receipt of a request on June 29, 2000, from the Committee on Ways and Means (the Committee) of the United States House of Representatives, the Commission instituted investigation No. 332-419, Pricing of Prescription Drugs, under section 332(g) of the Tariff Act of 1930 (19 U.S.C. 1332(g)).

FOR FURTHER INFORMATION CONTACT: Elizabeth R. Nesbitt, Project Leader (202-205-3355) or Raymond L. Cantrell, Deputy Project Leader (202-205-3362), Office of Industries, or Michael Barry, Deputy Project Leader (202-205-3246), Office of Economics, U.S. International Trade Commission, Washington, DC 20436. For information on the legal aspects of this investigation, contact William Gearhart of the Office of the General Counsel (202-205-3091). Hearing impaired individuals are advised that information on this matter can be obtained by contacting the TDD terminal on (202) 205-1810.

BACKGROUND: The Committee requested that the Commission's report include the following information for Canada, France, Germany, Italy, Japan, Mexico, Russia, and the United Kingdom:

• The process by which prescription drug prices are established;

• The role of compulsory licensing in setting prices;

• A description of the costs associated with the development of prescription drugs, and a comparison of the authorized prices in the specified countries; and

• Whether and to what extent price control systems utilized by such countries impact pricing for comparable drugs in the United States.

The Commission plans to submit its report to the Committee by September 29, 2000.

Written Submissions: A hearing will not be held. Instead, interested parties are invited to submit written statements (original and 14 copies) concerning the matters to be addressed by the Commission in its report on this investigation. In addition to general information regarding prices and pricing practices prevalent in each of the countries under consideration, the Commission is particularly interested in comments regarding the question raised by the Committee in their request regarding the extent to which price control systems utilized by the countries under consideration impact pricing for comparable drugs in the United States. Commercial or financial information that a person desires the Commission to treat as confidential must be submitted on separate sheets of paper, each clearly marked “Confidential Business Information” at the top. All submissions requesting confidential treatment must conform with the requirements of § 201.6 of the Commission's rules of practice and procedure (19 CFR 201.6). All written submissions must conform with the provisions of § 201.8 of the Commission's Rules. All written submissions, except for confidential business information, will be made available in the Office of the Secretary of the Commission for inspection by interested parties. To be assured of consideration by the Commission, written statements relating to the Commission's report should be submitted to the Commission at the earliest practical date and should be received no later than the close of business on August 4, 2000. All submissions should be addressed to the Secretary, United States International Trade Commission, 500 E Street SW, Washington, DC 20436. The Commission's rules do not authorize filing submissions with the Secretary by facsimile or electronic means.

Persons with mobility impairments who will need special assistance in gaining access to the Commission should contact the Office of the Secretary at 202-205-2000. General information concerning the Commission may also be obtained by accessing its Internet server (http://www.usitc.gov).

List of Subjects: Prescription drugs, Price controls, Compulsory licensing.

Dated: July 21, 2000.
By order of the Commission.
Donna R. Koehnke,
Secretary.

[FR Doc. 00-18924 Filed 7-25-00; 8:45 am]

BILLING CODE 7020-02-P